DEPARTMENT OF COMMERCE

National Oceanic and Atmospheric Administration

Evaluation of State Coastal Management Program

AGENCY: Office for Coastal Management (OCM), National Ocean Service (NOS), National Oceanic and Atmospheric Administration (NOAA), Department of Commerce (DOC).

ACTION: Notice.

SUMMARY: The National Oceanic and Atmospheric Administration (NOAA), Office for Coastal Management will hold a public meeting to solicit comments for the performance evaluation of the New Jersey Coastal Management Program.

DATES: The public meeting will be held on Thursday, June 9, 2016, and written comments must be received on or before June 24, 2016. For specific date, time, and location of the public meeting see SUPPLEMENTARY INFORMATION.

ADDRESSES: You may submit comments on the coastal program NOAA intends to evaluate by any of the following methods:

Public Meeting and Oral Comments: A public meeting will be hold in Tuckerton, New Jersey. For specific locations, see SUPPLEMENTARY INFORMATION.

Written Comments: Please direct written comments to Carrie Hall Evaluator, Planning and Performance Measurement Program, Office for Coastal Management, NOS/NOAA, 1305 East-West Highway, 11th Floor, N/OCM1, Silver Spring, Maryland 20910, or Carrie.Hall@noaa.gov.

FOR FURTHER INFORMATION CONTACT: Carrie Hall, Evaluator, Planning and Performance Measurement Program, Office for Coastal Management, NOS/NOAA, 1305 East-West Highway, 11th Floor, N/OCM1, Silver Spring, Maryland 20910, or Carrie.Hall@noaa.gov.

Copies of the final evaluation findings and related material (including past performance reports and notices prepared by NOAA's Office for Coastal Management) may be obtained upon written request by contacting the person identified under FOR FURTHER INFORMATION CONTACT. Copies of the final evaluation findings may also be downloaded or viewed on the Internet at https://coast.noaa.gov/czm/evaluations/evaluation_findings/index.html.

SUPPLEMENTARY INFORMATION: Section 312 and 315 of the Coastal Zone Management Act (CZMA) require NOAA to conduct periodic evaluations of federally approved state and territorial coastal programs and national estuarine research reserves. The process includes a public meeting, consideration of written public comments and consultations with interested Federal, state, and local agencies and members of the public. During the evaluation, NOAA will consider the extent to which the state has met the national objectives, adhered to the final management plan approved by the Secretary of Commerce, and adhered to the terms of financial assistance under the CZMA. When the evaluation is completed, NOAA's Office for Coastal Management will place a notice in the Federal Register announcing the availability of the Final Evaluation Findings.

Specific information on the periodic evaluation of the state and territorial coastal programs and reserves that are the subject of this notice are detailed below as follows:

New Jersey Coastal Management Program Evaluation

You may participate or submit oral comments at the public meeting scheduled as follows:

Date: June 9, 2016.

Time: 5:00 p.m. local time.

Location: Jacques Cousteau National Estuarine Research Reserve, Jacques Cousteau Coastal Educational Center, 130 Great Bay Blvd., Tuckerton, New Jersey 08087.

Written public comments must be received on or before June 24, 2016.

Federal Domestic Assistance Catalog 11.419.

Coastal Zone Management Program Administration.

Dated: April 12, 2016.
John King,
Deputy Director, Office for Coastal Management, National Ocean Service, National Oceanic and Atmospheric Administration.

[FR Doc. 2016-09805 Filed 4-26-16; 8:45 am]

BILLING CODE 3510-08-P